DEPARTMENT OF TRANSPORTATION

Federal Railroad Administration

[Docket Number FRA-2009-0015]

Petition for Waiver of Compliance

In accordance with Part 211 of Title 49 Code of Federal Regulations (CFR), this document provides the public notice that by a document dated September 6, 2012, Ritron, Incorporated (Ritron) has petitioned the Federal Railroad Administration (FRA) for an amendment of a waiver of compliance from certain provisions of the Federal railroad safety regulations contained at 49 CFR part 232, Brake System Safety Standards for Freight and Other Non-Passenger Trains and Equipment; End-of-Train Devices.

By a letter dated March 30, 2010, Ritron submitted its original petition for a waiver of compliance from 49 CFR 232.409(d), which pertains to the inspection and testing of end-of-train devices, as applied to its DTX-445 and DTX-454 radio transceivers. The provision requires that telemetry equipment be tested for accuracy and calibrated, if necessary, at least every 368 days. The provision also requires that the date and location of the last calibration or test, as well as the name of the person performing the calibration or test, be legibly displayed on a weather-resistant sticker or other marking device affixed to the outside of both the front and the rear unit. On June 21, 2010, FRA's Railroad Safety Board (Board) granted Ritron's petition for a waiver of compliance, subject to certain conditions, in Docket Number FRA-2009-0015.

The proposed amendment sought by Ritron would add its new radio transceiver model, the DTX-460, to the subject waiver. The DTX-460 is a follow-on to the DTX-454, which is already included in the subject waiver. Ritron states that the DTX-454 has been redesigned to remove obsolete parts and to improve its performance. The DTX-460 is, however, a form, fit, and functional equivalent to the DTX-454. A copy of the Federal Communications Commission certificate and test report can be found in the docket. Additional materials that were provided to the Board include schematics, the alignment procedure, the theory of operation, and the changes from the DTX-454 to the DTX-460.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 24, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on April 3, 2013.
Robert C. Lauby,
Deputy Associate Administrator for Regulatory and Legislative Operations.

[FR Doc. 2013-08241 Filed 4-8-13; 8:45 am]

BILLING CODE 4910-06-P